FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011835-001.

Title: CMA CGM/CNAN Space Charter Pooling and Cooperative Working Agreement.

Parties: CMA CGM Societe Nationale de Transports Maritimes-CNAN.

Synopsis: The proposed agreement modification would permit the parties to include in their revenue pool freights received from the carriage of containers on deck.

By Order of the Federal Maritime Commission.
Dated: April 21, 2003.
Bryant L. VanBrakle,
Secretary.

[FR Doc. 03-10174 Filed 4-23-03; 8:45 am]

BILLING CODE 6730-01-P